DEPARTMENT OF TRANSPORTATION

Federal Aviation Administration

14 CFR Part 39

[Docket No. FAA-2008-0681; Directorate Identifier 2008-NE-13-AD; Amendment 39-17268; AD 2012-23-12]

RIN 2120-AA64

Airworthiness Directives; Turbomeca S.A. Turboshaft Engines

AGENCY: Federal Aviation Administration (FAA), DOT.

ACTION: Final rule.

SUMMARY: We are superseding an existing airworthiness directive (AD) for all Turbomeca S.A. Arriel 1E2, 1S, and 1S1 turboshaft engines. That AD currently requires a one-time inspection and torque check of the 3-way union plug installed on all fuel control units (FCUs). This new AD requires the same actions. This AD also requires reduction of the applicability to certain FCUs and references an updated service bulletin containing additional detailed information to identify the non-compliant “red disk.” This AD also requires replacement of the plug before further flight if it is found to be non-compliant, and prohibits installation of FCUs that have not passed the 3-way union plug inspection and torque check. This AD was prompted by Turbomeca S.A. informing us that FCUs manufactured, repaired, or overhauled after March 31, 2008, do not require inspection. We are issuing this AD to prevent fuel leaks, which could result in a fire and damage to the helicopter.

DATES: This AD is effective January 7, 2013.

The Director of the Federal Register approved the incorporation by reference of a certain publication listed in the AD as of January 7, 2013.

ADDRESSES: For service information identified in this AD, contact Turbomeca S.A., 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Rose Len, Aerospace Engineer, Engine & Propeller Directorate, FAA, 12 New England Executive Park, Burlington, MA 01803; phone: 781-238-7772; fax: 781-238-7199; email: rose.len@faa.gov.

SUPPLEMENTARY INFORMATION:

Discussion

We issued a notice of proposed rulemaking (NPRM) to amend 14 CFR part 39 to supersede AD 2009-03-04, Amendment 39-15805 (74 FR 7796, February 20, 2009). That AD applies to the specified products. The NPRM published in the Federal Register on July 25, 2012 (77 FR 43552). That NPRM proposed to require a one-time inspection and torque check of the 3-way union plug, replacement of the plug before further flight if it is found to be non-compliant, and would prohibit installation of FCUs that have not passed the 3-way union plug inspection and torque check.

Comments

We gave the public the opportunity to participate in developing this AD. We received no comments on the NPRM.

Conclusion

We reviewed the relevant data and determined that air safety and the public interest require adopting the AD as proposed.

Costs of Compliance

Based on the updated service information, we estimate that this AD will affect about 179 engines installed on helicopters of U.S. registry. We also estimate that it will take about 0.5 hour per product to comply with this AD. The average labor rate is $85 per hour. Required parts will cost about $14 per product. Based on these figures, we estimate the cost of the AD on U.S. operators to be $10,114. Our cost estimate is exclusive of possible warranty coverage.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-03-04, Amendment 39-15805 (74 FR 7796, February 20, 2009), and adding the following new AD:

2012-23-12 Turbomeca S.A.: Amendment 39-17268; Docket No. FAA-2008-0681; Directorate Identifier 2008-NE-13-AD.

(a) Effective Date

This airworthiness directive (AD) is effective January 7, 2013.

(b) Affected ADs

This AD supersedes AD 2009-03-04, Amendment 39-15805 (74 FR 7796, February 20, 2009.

(c) Applicability

This AD applies to Turbomeca S.A. models Arriel 1E2, 1S, and 1S1 turboshaft engines with FCUs manufactured, repaired, or overhauled on or before March 31, 2008.

(d) Unsafe Condition

Turbomeca S.A. informed the European Aviation Safety Agency of a case of a “red disk” plug, adapted for bench testing, which was installed on the FCU on an engine and released for service operation. An engine experienced an in-service high pressure leak event (at the fuel pump outlet) due to cracking of this “red disk” plug. This leak could lead to in-flight flame-out and/or possibly a fire. This AD was prompted by Turbomeca S.A. informing us that FCUs manufactured, repaired, or overhauled after March 31, 2008, do not require inspection. We are issuing this AD to prevent fuel leaks, which could result in a fire and damage to the helicopter.

(e) Compliance

Comply with this AD within the compliance times specified, unless already done. Within 100 operating hours from the effective date of this AD, perform a one-time inspection of the plug installed in the FCU 3-way union, part number 9 932 30 706 0.

(1) If the FCU 3-way union plug is unpainted, verify the plug is torqued to between 1.3 and 1.5 daN.m, in accordance with Turbomeca S.A. Mandatory Service Bulletin (MSB) No. 292 73 0817, Version D, dated February 29, 2012, before further flight.

(2) If the FCU 3-way union plug has any red paint on it, replace it with a serviceable plug and torque the plug to between 1.3 and 1.5 daN.m, in accordance with Turbomeca S.A. MSB No. 292 73 0817, Version D, dated February 29, 2012, before further flight.

(f) Installation Prohibition

After the effective date of this AD, do not install any FCU manufactured, repaired, or overhauled on or before March 31, 2008, onto any Turbomeca S.A. model Arriel 1E2, 1S, and 1S1 turboshaft engine, unless the FCU 3-way union plug has passed the one-time inspection and torque check required by this AD.

(g) Credit for Previous Actions

If you performed the inspections and corrective actions required by this AD using the original issue or any version up to and including Version D of Turbomeca S.A. MSB No. 292 73 0817 before the effective date of this AD, you have met the requirements of this AD.

(h) Alternative Methods of Compliance (AMOCs)

The Manager, Engine Certification Office, may approve AMOCs for this AD. Use the procedures found in 14 CFR 39.19 to make your request.

(i) Related Information

(1) For more information about this AD, contact Rose Len, Aerospace Engineer, Engine Certification Office, FAA, Engine & Propeller Directorate, 12 New England Executive Park, Burlington, MA 01803; phone: 781-238-7772; fax: 781-238-7199; email: rose.len@faa.gov.

(2) Refer to European Aviation Safety Agency Airworthiness Directive 2012-0063, dated April 17, 2012, for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Turbomeca S.A. Mandatory Service Bulletin No. 292 73 0817, Version D, dated February 29, 2012.

(ii) Reserved.

(3) For service information identified in this AD, contact Turbomeca S.A., 40220 Tarnos, France; phone: 33 (0)5 59 74 40 00; telex: 570 042; fax: 33 (0)5 59 74 45 15.

(4) You may view this service information at the FAA, Engine & Propeller Directorate, 12 New England Executive Park, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on November 14, 2012.
Colleen M. D'Alessandro,
Assistant Manager, Engine & Propeller Directorate, Aircraft Certification Service.

[FR Doc. 2012-28637 Filed 11-30-12; 8:45 am]

BILLING CODE 4910-13-P